SECURITIES AND EXCHANGE COMMISSION

In the Matter of Internetstudios.com, Inc., and World Cyberlinks Corp. File No. 500-1; Order of Suspension of Trading

April 24, 2007.

It appears to the Securities and Exchange Commission that there is a lack of current and accurate information concerning the securities of Internetstudios.com, Inc. because it has not filed any periodic reports since it filed a Form 10-QSB for the period ended September 30, 2005.

It appears to the Securities and Exchange Commission that there is a lack of current and accurate information concerning the securities of World Cyberlinks Corp. because it has not filed any periodic reports since it filed a Form 10-KSB for the period ended July 31, 2002.

The Commission is of the opinion that the public interest and the protection of investors require a suspension of trading in the securities of the above-listed companies.

Therefore, it is ordered, pursuant to Section 12(k) of the Securities Exchange Act of 1934, that trading in the above-listed companies, is suspended for the period from 9:30 a.m. EDT on April 24, 2007, through 11:59 p.m. EDT on May 7, 2007.

By the Commission.
Jill M. Peterson,
Assistant Secretary.

[FR Doc. 07-2074 Filed 4-24-07; 11:54 am]

BILLING CODE 8010-01-M